NATIONAL ARCHIVES AND RECORDS ADMINISTRATION

[NARA-2015-049]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by July 29, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for types of records and submit these schedules for NARA's approval. These schedules allow timely transfer into the National Archives of historically valuable records and authorize agencies to dispose of all other records after the agencies no longer need them to conduct business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is limited to a specific medium. (See 36 CFR 1225.12(e).)

No agencies may destroy Federal records without the approval of the Archivist of the United States. The Archivist grants this approval only after a thorough consideration of the records' administrative use by the agency of origin, the rights of the Government and of people directly affected by the Government's activities, and whether or not the records have historical or other value.

In addition to identifying the Federal agencies and any subdivisions requesting disposition authority, this notice: Lists the organizational unit(s) accumulating the records or that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it too includes information about the records. You may request additional information about the disposition process at the addresses above.

Schedules Pending

1. Department of the Army, Agency-wide (DAA-AU-2015-0030, 1 item, 1 temporary item). Master files of an electronic information system that contains records relating to dining facility inspections including inspection dates, locations, and final results.

2. Department of Commerce, National Oceanic and Atmospheric Administration (DAA-0370-2015-0001, 20 items, 14 temporary items). Records of the National Climatic Data Center, including atmospheric observations, homogenized and derived products, numerical model data, and the national digital forecast database. Proposed for permanent retention are routine atmospheric observation records, reports of historically significant events, analyzed maps and charts, and core normals of weather station temperature and precipitation values.

3. Department of Commerce, National Oceanic and Atmospheric Administration (DAA-0370-2015-0005, 7 items, 3 temporary items). Records of the Marine National Monument Program, including supporting materials and permit files. Proposed for permanent retention are national monument designation files, management plans and related reports, management plan and revision files, and supplemental management plans.

4. Department of Health and Human Services, Indian Health Service (DAA-0513-2015-0003, 1 item, 1 temporary item). Internal correspondence, forms, case summaries, internal committee findings, and reports for medical malpractice claims.

5. Department of Homeland Security, National Protection and Programs Directorate (DAA-0563-2015-0008, 1 item, 1 temporary item). Data inadvertently captured and determined to be unrelated to known or suspected cyber threats contained in the master files of an electronic information system used for intrusion detection, analysis, and prevention.

6. Department of State, Bureau of Energy Resources (DAA-0059-2014-0021, 3 items, 3 temporary items). Records of the Office of Electricity and Energy Efficiency including research materials, correspondence, reports, memorandums, and working files related to energy issues.

7. Department of State, Bureau of Energy Resources (DAA-0059-2015-0007, 3 items, 2 temporary items). Project and working files of the Office of Alternative and Renewable Energy. Proposed for permanent retention are records associated with participation on international advisory boards focused on renewable energy issues.

8. Department of Transportation, Surface Transportation Board (DAA-0134-2012-0002, 1 item, 1 temporary item). Summary reports of temporary suspensions of service by railroads.

9. Department of Transportation, Surface Transportation Board (DAA-0134-2013-0001, 1 item, 1 temporary item). Comments received on the merger of railroad companies.

10. Department of Transportation, Surface Transportation Board (DAA-0134-2013-0003, 1 item, 1 temporary item). Summaries of agricultural contracts entered into by railroads and shippers.

11. Department of Transportation, Surface Transportation Board (DAA-0134-2013-0006, 1 item, 1 temporary item). Audit work papers.

12. Department of Transportation, Surface Transportation Board (DAA-0134-2013-0007, 1 item, 1 temporary item). Practitioner application files.

13. Department of Transportation, Surface Transportation Board (DAA-0134-2013-0008, 1 item, 1 temporary item). Practitioner registry files.

14. Department of the Treasury, Alcohol and Tobacco Tax and Trade Bureau (DAA-0564-2015-0001, 1 item, 1 temporary item). Closed litigation case files.

15. Environmental Protection Agency, Agency-wide (DAA-0412-2015-0003, 1 item, 1 temporary item). Records used to facilitate emergency preparedness, prevention, and response.

16. Federal Communications Commission, Enforcement Bureau (DAA-0173-2014-0002, 4 items, 4 temporary items). Master files of an electronic information system used to track workflow and administrative actions related to complaints, initiatives and cases.

17. Federal Communications Commission, Consumer and Governmental Affairs Bureau (DAA-0173-2015-0003, 1 item, 1 temporary item). Reports of complaints of changing a consumer's telephone service without consent.

18. Office of the Director of National Intelligence, Front Office (N1-576-11-2, 8 items, 4 temporary items). Includes copies of speeches and records related to routine financial activities. Proposed for permanent retention are files of senior leadership.

19. Recovery, Accountability and Transparency Board, Agency-wide (DAA-0220-2014-0016, 4 items, 3 temporary items). Tracking files of evidence received and master files of an electronic information system used to analyze data of Federal grant recipients. Proposed for permanent retention are raw data of Federal grant recipients.

20. Securities and Exchange Commission, Division of Corporation Finance (DAA-0266-2014-0001, 2 items, 1 temporary item). Records related to the submission and processing of requests by businesses for confidential handling of certain proprietary business or financial information. Proposed for permanent retention are the unredacted submissions.

21. Selective Service System, Agency-wide (DAA-0147-2015-0002, 4 items, 1 temporary item). Background materials relating to the development of the Selective Service System including draft copies of organizational charts and plans. Proposed for permanent retention are organizational plans, organizational charts, and mission statements.

Dated: June 22, 2015.
Paul M. Wester, Jr.,
Chief Records Officer for the U.S. Government.

[FR Doc. 2015-15985 Filed 6-26-15; 8:45 am]

BILLING CODE 7515-01-P